DEPARTMENT OF JUSTICE

Notice of Lodging of Consent Decree Pursuant to the Comprehensive Environmental Response Compensation and Liability Act (“CERCLA”)

Consistent with Departmental policy, 28 CFR 50.7, and under Section 122(d) of CERCLA, 42 U.S.C. 9622(d), notice is hereby given that a proposed consent decree in United States v. Yaworski,Inc., et al., Civ. No. 3:99cv626 (PCD), was lodged on August 2, 2000 with the United States District Court for the District of Connecticut. The Consent Decree concerns hazardous waste contamination at the Yaworski Lagoon Superfund Site (the “Site”), located off Packer Road in Canterbury, Connecticut. The Consent Decree would resolve the liability for reimbursement of response costs incurred and to be incurred by the United States in connection with the Site as to the defendants against whom the United States filed a complaint on behalf of the United States Environmental Protection Agency (“EPA”) as well as two other related entities and would also resolve certain claims that the United States asserted under the Federal Debt Collection Act, 28 U.S.C. 3001 et seq., and the Federal Priority Statute, 31 U.S.C. 3701 et seq. The Consent Decree requires the settling defendants to reimburse the EPA Hazardous Substance Superfund $1,425,000 for its costs pertaining to the Site.

The Department of Justice will receive, for a period of thirty (30) days from the date of this publication, comments relating to the proposed consent decree. Comments should be addressed to the Assistant Attorney General, Environment and Natural Resources Division, P.O. Box 7611, U.S. Department of Justice, Washington, D.C. 20044-7611, and should refer to United States v. Yaworski, Inc., et al., DOJ Ref. #90-11-2-307/1.

The proposed consent decree may be examined at the office of the United States Attorney for the District of Connecticut, 157 Church Street, 23rd Floor, New Haven, Connecticut 06510 (contact Assistant United States Attorney Christine Sciarrino); and the Region I Office of the Environmental Protection Agency, 1 Congress Street (SES), Suite 1100, Boston, MA 02114-2023 (contact Senior Enforcement Counsel, Lloyd Selbst). A copy of the proposed consent decree may be obtained by mail from the Consent Decree Library, P.O. Box 7611, Washington, D.C. 20044-7611. In requesting a copy please refer to the referenced case and enclose a check in the amount of $9.50 (25 cents per page reproduction costs) for the Consent Decree without Appendices, or in the amount of $11.50 for the Consent Decree with all Appendices, payable to the Consent Decree Library.

Bruce S. Gelber,
Deputy Chief, Environmental Enforcement Section, Environment and Natural Resources Division.

[FR Doc. 00-20623 Filed 8-14-00; 8:45 am]

BILLING CODE 4410-15-M